DEPARTMENT OF THE INTERIOR

Fish and Wildlife Service

Notice of Availability of Final Comprehensive Conservation Plan and Environmental Assessment for Mark Twain National Wildlife Refuge Complex in Iowa, Illinois and Missouri

AGENCY: Fish and Wildlife Service, Interior.

ACTION: Notice of availability.

SUMMARY: The U.S. Fish and Wildlife Service (Service) announces that the final Comprehensive Conservation Plan (CCP) and Environmental Assessment (EA) are available for Mark Twain National Wildlife Refuge Complex (Complex). This CCP is prepared pursuant to the National Wildlife Refuge System Administration Act of 1966, as amended by the National Wildlife Refuge System Improvement Act of 1997 (16 U.S.C. 668dd-668ee et seq.) and the National Environmental Policy Act of 1969, and describes how the Service intends to manage this refuge over the next 15 years.

ADDRESSES: Copies of the CCP are available on compact diskette or hard copy, and can be obtained by writing: Mark Twain National Wildlife Refuge Complex, 1704 North 24th Street, Quincy, Illinois 62301. Copies of the CCP can also be accessed and downloaded at the following Web site address: http://midwest.fws.gov/planning/marktwain/index.html.

FOR FURTHER INFORMATION CONTACT: Dick Steinbach at (217) 224-8580.

SUPPLEMENTARY INFORMATION: The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Mark Twain National Wildlife Refuge was established in 1958 from lands originally purchased by the U.S. Army Corps of Engineers (COE) for construction of the Mississippi River 9-foot navigation channel project. Since then the Refuge has evolved into a Refuge Complex that includes Port Louisa NWR near Wapello, Iowa; Great River NWR and Clarence Cannon NWR, both near Annada, Missouri; Two Rivers NWR near Brussels, Illinois; and Middle Mississippi near St. Louis, Missouri. The Complex Headquarters is located in Quincy, Illinois.

Four management alternatives were evaluated in the draft environmental assessment. The alternatives are centered on different levels of flood protection/river connectivity and additional land conservation measures through acquisition or partnership.

The selected alternative, Alternative A—Expanded boundaries and Increased River Connectivity, proposes a land conservation proposal with a land acquisition component. The 55,673-acre proposal has been included in the comprehensive conservation planning process. It would incorporate a boundary expansion of 27,659 acres and proposes working with landowners and agencies on the balance of the area to promote long term conservation and restoration of those areas. The other alternatives considered were: Alternative B—Current Program, maintaining current management strategies and acquisition within existing boundaries (no action); Alternative C—Existing Boundaries and Maximum River Connectivity, increasing river connectivity via spillways, levee breaches, and acquisition within existing boundaries; and

Alternative D—Existing Boundaries and Least River Connectivity, enhancing habitat conservation via more flood protection and less river connectivity on refuge lands within existing boundaries.

Components of the final comprehensive conservation plan and environmental assessment include:

Habitat and Public Use—Under the selected alternative identified for Complex management in the final environmental assessment, habitats and public use would be enhanced on current divisions. Some flood-friendly nature trails, observation platforms, and information kiosks would offer recreational and educational opportunities to the public. Additional hunting, fishing, and non-consumptive wildlife uses would be implemented where biologically compatible. Habitats are improved through a process of ensuring the appropriate management options are being applied at each site.

Partnerships—The final comprehensive conservation plan for the Mark Twain National Wildlife Refuge Complex emphasizes the importance of the close working relationships the Complex has established with three Upper Mississippi River states and the U.S. Army Corps of Engineers. Along with these partners, the Service operates a mosaic of habitat and public use opportunities along the corridor. All partners are involved in the effort to reverse a trend of declining resource values on the River. These relationships will be strengthened under the plan.

Resource Conservation—The Plan proposes a resource conservation plan incorporating partnership programs offered through the U.S. Army Corps of Engineers and U.S. Department of Agriculture, such as the Wetlands Reserve Program and flood reduction projects. Service acquisition of land would be staged, occurring as willing sellers emerged and as funds became available. Acquisition would target the most flood-prone lands that have high natural resource values and also would produce benefits to federal policy efforts, such as providing storage capacity, reducing disaster assistance payments, and increasing water quality through increased nutrient cycling.

Dated: May 17, 2004.
Charles M. Wooley,
Acting Regional Director, , U.S. Fish and Wildlife Service, Ft. Snelling, Minnesota.

[FR Doc. 04-21374 Filed 9-22-04; 8:45 am]

BILLING CODE 4310-55-P